DEPARTMENT OF DEFENSE

Department of the Army

Availability for Non-Exclusive, Exclusive, or Partially Exclusive Licensing of U.S. Patent Application Concerning Human Liver Cell Line

AGENCY: Department of the Army, DoD.

ACTION: Notice.

SUMMARY: In accordance with 37 CFR 404.6, announcement is made of the availability for licensing of U.S. Patent Application No. 09/962,364 entitled “Human Liver Cell Line” filed September 25, 2001. Foreign rights are also available (PCT/US01/29975). The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: In this application is described the establishment and maintenance of a normal human hepatocyte cell line able to support complete development of malaria parasite development in vitro. Advantages and uses of the cell line are also described.

Luz D. Ortiz,
Army Federal Register Liaison Officer.

[FR Doc. 02-5904 Filed 3-11-02; 8:45 am]

BILLING CODE 3710-08-M